DEPARTMENT OF THE INTERIOR

Bureau of Indian Affairs

Renewal of Agency Information Collection for the Bureau of Indian Education Information Collection Activities; Request for Comments

AGENCY: Bureau of Indian Affairs, Interior.

ACTION: Notice of request for comments.

SUMMARY: In compliance with the Paperwork Reduction Act of 1995, the Bureau of Indian Education (BIE) is seeking comments on renewal of Office of Management and Budget (OMB) approval for the collection of information for the Application for Admission to Haskell Indian Nations University (Haskell) and to Southwestern Indian Polytechnic Institute (SIPI), authorized by OMB Control Number 1076-0114, the Student Transportation Form, authorized by OMB Control Number 1076-0134, and the Data Elements for Student Enrollment in Bureau-funded Schools, authorized by OMB Control Number 1076-0122. These information collections expire March 30, 2012.

DATES: Submit comments on or before February 13, 2012.

ADDRESSES: You may submit comments on the information collection to Brandi Sweet, Program Analyst, U.S. Department of the Interior, Bureau of Indian Education, 1849 C Street NW., Washington, DC 20240; email: Brandi.Sweet@bie.edu.

FOR FURTHER INFORMATION CONTACT: Brandi Sweet, Program Analyst, (202) 208-5504.

SUPPLEMENTARY INFORMATION:

I. Abstract

These collections help support the educational efforts for American Indian and Alaska Native students from elementary through post-secondary levels. The collections help fulfill the trust responsibility of the Secretary of the Department of the Interior and the Assistant Secretary—Indian Affairs, as delegated under 25 U.S.C. 2 and 9, and 209 DM 8.

Application for Admission to Haskell & SIPI

The BIE is requesting renewal of OMB approval for the admission forms for Haskell and SIPI. These admission forms are used in determining program eligibility of American Indian and Alaska Native students for educational services. These forms are utilized pursuant to the Blood Quantum Act, Public Law 99-228; the Snyder Act, Chapter 115, Public Law 67-85; and, the Indian Appropriations of the 48th Congress, Chapter 180, page 91, For Support of Schools, July 4, 1884.

Student Transportation Form

The BIE is requesting renewal of OMB approval for the Student Transportation Form. The Student Transportation regulations in 25 CFR part 39, subpart G, contain the program eligibility and criteria that govern the allocation of transportation funds. Information collected from the schools will be used to determine the rate per mile. The information collection provides transportation mileage for Bureau-funded schools, which determines the allocation of transportation funds.

Data Elements for Student Enrollment in Bureau-funded Schools

The BIE is requesting renewal of OMB approval for the Student Enrollment Application in Bureau-funded Schools. School registrars collect information on this form to determine the student's eligibility for enrollment in a Bureau-funded school, and if eligible, is shared with appropriate school officials to identify the student's base and supplemental educational and/or residential program needs. The BIE compiles the information into a national database to facilitate budget requests and the allocation of congressionally appropriated funds.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents, such as through the use of automated collection techniques or other forms of information technology.

Please note that an agency may not conduct or sponsor, and an individual need not respond to, a collection of information unless it has a valid OMB Control Number.

It is our policy to make all comments available to the public for review at the location listed in the ADDRESSES section. Before including your address, phone number, email address or other personally identifiable information, be advised that your entire comment—including your personally identifiable information—may be made public at any time. While you may request that we withhold your personally identifiable information, we cannot guarantee that we will be able to do so.

III. Data

OMB Control Number: 1076-0114.

Title: Application for Admission to Haskell Indian Nations University and to Southwestern Indian Polytechnic Institute.

Brief Description of Collection: Submission of these eligibility applications forms are mandatory in determining a student's eligibility for educational services. The information is collected on one two forms: Application for Admission to Haskell form and SIPI form.

Type of Review: Extension without change of a currently approved collection.

Respondents: Students.

Number of Respondents: 4,000 per year, on average.

Total Number of Responses: 4,000 per year, on average.

Frequency of Response: Once per year for Haskell; each trimester for SIPI.

Estimated Time per Response: 30 minutes per Haskell application; 30 minutes per SIPI application.

Estimated Total Annual Hour Burden: 2,000 hours.

Estimated Total Annual Cost Burden: $10,000 is the estimated total annual cost burden. We estimate 1,000 Haskell applications at a $10 filing fee charge per application. The fee for SIPI is included in tuition costs and therefore, is not included in this estimate, reducing the previous estimated annual cost burden from $16,500 to $10,000.

* * * * *

OMB Control Number: 1076-0134.

Title: Student Transportation Form.

Brief Description of Collection: This annual collection provides pertinent data concerning the school's bus transportation mileage and related long distance travel mileage to determine funding levels for school transportation. This information is collected on the Indian School Equalization Program (ISEP) Student Transportation form.

Type of Review: Extension without change of a currently approved collection.

Respondents: Contract and Grant schools; Bureau-operated schools.

Number of Respondents: 121 per year, on average.

Total Number of Responses: 121 per year, on average.

Frequency of Response: Once per year.

Estimated Time per Response: 6 hours.

Estimated Total Annual Burden: 726 hours.

* * * * *

OMB Control Number: 1076-0122.

Title: Data Elements for Student Enrollment in Bureau-funded Schools.

Brief Description of Collection: This annual collection provides Bureau-funded schools with data about students that impacts placement, special needs assessments, and funding for individuals and assists schools in developing a plan for the school year. The information is collected on a Student Enrollment Application form.

Type of Review: Extension without change of a currently approved collection.

Respondents: Contract and Grant schools; Bureau-operated schools.

Number of Respondents: 48,000 per year, on average.

Total Number of Responses: 48,000 per year, on average.

Frequency of Response: Once per year.

Estimated Time per Response: 15 minutes.

Estimated Total Annual Burden: 12,000 total burden hours.

Dated: December 9, 2011.
Alvin Foster,
Assistant Director for Information Resources.

[FR Doc. 2011-32154 Filed 12-14-11; 8:45 am]

BILLING CODE 4310-6W-P